DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies and State approval agencies whose applications to the Secretary for renewed recognition, requests for an expansion of the scope of recognition, or reports will be reviewed at the Advisory Committee meeting to be held on June 5-7, 2006, at the Hilton Arlington Hotel, 950 North Stafford Street, Arlington, Virginia.

Where Should I Submit My Comments?

Please submit your written comments by mail, fax, or e-mail no later than March 8, 2006 to Ms. Robin Greathouse, Accreditation and State Liaison. You may contact her at the U.S. Department of Education, Room 7105, MS 8509, 1990 K Street, NW., Washington, DC 20006, telephone: (202) 219-7011, fax: (202) 219-7005, or e-mail: Robin.Greathouse@ed.gov. Individuals who use a telecommunications device for the deaf (TDD) may call the Federal Information Relay Service at 1-800-877-8339.

What Is the Authority for the Advisory Committee?

The National Advisory Committee on Institutional Quality and Integrity is established under Section 114 of the Higher Education Act (HEA), as amended, 20 U.S.C. 011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comments.

What Happens to the Comments That I Submit?

We will review your comments, in response to this notice, as part of our evaluation of the agencies' compliance with Section 496 of the Higher Education Act of 1965, as amended, and the Secretary's Criteria for Recognition of Accrediting Agencies and State Approval Agencies. The Criteria are regulations found in 34 CFR part 602 (for accrediting agencies) and in 34 CFR part 603 (for State approval agencies) and are found at the following site: http://www.ed.gov/admins/finaid/accred/index.html. We will also include your comments with the staff analyses we present to the Advisory Committee at its June 2006 meeting. Therefore, in order for us to give full consideration to your comments, it is important that we receive them by March 8, 2006.

In all instances, your comments about agencies seeking continued recognition and/or an expansion of an agency's scope of recognition must relate to the Criteria for Recognition. In addition, your comments for any agency whose interim report or progress report is scheduled for review must relate to the issues raised and the Criteria for Recognition cited in the Secretary's letter that requested the interim report.

What Happens to Comments Received After the Deadline?

We will review any comments received after the deadline. If such comments, upon investigation, reveal that the accrediting agency or State approval agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs it accredits that are encompassed within the scope of recognition she grants to the agency.

The following agencies will be reviewed during the June 2006 meeting of the Advisory Committee:

Nationally Recognized Accrediting Agencies

Petition for Initial Recognition

1. National Oriental Medicine Accreditation Agency (Requested scope of recognition: The accreditation of freestanding educational institutions of Oriental Medicine and programs that offer entry-level professional doctoral degrees in Oriental Medicine.)

Petition for Renewal of Recognition That Include an Expansion of the Scope of Recognition

1. Accrediting Council for Independent Colleges and Schools (Current scope of recognition: The accreditation of private postsecondary institutions offering certificates or diplomas and postsecondary institutions offering associate's, bachelor's, or master's degrees in programs that are designed to train and educate persons for careers or professions where business applications or doctrines, supervisory or management techniques, professional or paraprofessional applications, and other business-related applications support or constitute the career.) (Requested scope of recognition: The accreditation of private postsecondary institutions offering certificates or diplomas, and postsecondary institutions offering associate, bachelors, or master's degrees in programs designed to educate students for professional, technical, or occupational careers including those that offer those programs via distance education.)

2. American College of Nurse-Midwives, Division of Accreditation (Current scope of recognition: The accreditation and preaccreditation of basic certificate and basic graduate nurse-midwifery education programs for registered nurses, the pre-accreditation and accreditation of pre-certification nurse-midwifery education programs and the accreditation and pre-accreditation of direct-entry midwifery programs for the non-nurse.) (Requested scope of recognition: The accreditation and preaccreditation of basic certificate, basic graduate nurse-midwifery, direct-entry midwifery, and pre-certification nurse-midwifery education programs. The accreditation and pre-accreditation of freestanding institutions of midwifery education that may offer other related health care programs to include nurse practitioner programs, and including those institutions and programs that offer distance education.)

3. Joint Review Committee on Education in Radiologic Technology (Current scope of recognition: The accreditation of educational programs for radiographers and radiation therapists.) (Requested scope of recognition: The accreditation of educational programs in radiography, including magnetic resonance; radiation therapy; and medical dosimetry at the certificate and the associate, baccalaureate, and graduate levels, including programs using distance education methodology.)

4. National Council for Accreditation of Teacher Education (Current scope of recognition: The accreditation throughout the United States of professional education units providing baccalaureate and graduate degree programs for the preparation of teachers and other professional personnel for elementary and secondary schools.) (Requested scope of recognition: The accreditation throughout the United States of professional education units providing baccalaureate and graduate degree programs for the preparation of teachers and other professional personnel for elementary and secondary schools including programs offering distance education.)

Petitions for Renewal of Recognition That Include a Contraction of the Scope of Recognition

1. Accreditation Council for Pharmacy Education (Current scope of recognition: The accreditation and preaccreditation of professional degree programs in pharmacy leading to the degrees of Baccalaureate in Pharmacy and Doctor of Pharmacy.) (Requested scope of recognition: The accreditation and preaccreditation of professional degree programs in pharmacy leading to the Doctor of Pharmacy degree.)

Petitions for Renewal of Recognition

1. American Bar Association, Council of the Section of Legal Education and Admissions to the Bar (Current and requested scope of recognition: The accreditation throughout the United States of programs in legal education that lead to the first professional degree in law, as well as freestanding law schools offering such programs.)

2. American Dental Association, Commission on Dental Accreditation (Current and requested scope of recognition: The accreditation of predoctoral dental education programs (leading to the D.D.S or D.M.D degree); advanced dental education programs and allied dental education programs that are fully operational or have attained “accreditation eligible” status, and for its accreditation of programs offered via distance education.)

3. Council on Chiropractic Education, Commission on Accreditation (Current and requested scope of recognition: The accreditation of programs leading to the Doctor of Chiropractic degree and single-purpose institutions offering the Doctor of Chiropractic program.)

4. Joint Review Committee on Educational Programs in Nuclear Medicine Technology (Current and requested scope of recognition: The accreditation of higher education programs for the nuclear medicine technologist.)

5. National Accrediting Commission of Cosmetology Arts and Sciences (Current and requested scope of recognition: The accreditation throughout the United States of postsecondary schools and departments of cosmetology arts and sciences and massage therapy.)

6. Southern Association of Colleges and Schools, Commission on Colleges (Current and requested scope of recognition: The accreditation and preaccreditation (“Candidate for Accreditation”) of degree-granting institutions of higher education in Alabama, Florida, Georgia, Kentucky, Louisiana, Mississippi, North Carolina, South Carolina, Tennessee, Texas, and Virginia, including distance education programs offered at those institutions.)

7. Western Association of Schools and Colleges, Accrediting Commission for Senior Colleges and Universities (Current and requested scope of recognition: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.)

Interim Report (An interim report is a follow-up report on an accrediting agency's compliance with specific criteria for recognition.)

1. Accrediting Bureau of Health Education Schools.

2. American Speech-Language-Hearing Association, Council on Academic Accreditation in Audiology and Speech—Language Pathology.

3. Distance Education and Training Council, Accrediting Commission.

Progress Report (A report describing the agency's progress in implementing new accreditation processes/or procedures.)

1. Montessori Accreditation Council for Teacher Education, Commission on Accreditation

State Agencies Recognized For the Approval of Public Postsecondary Vocational Education

Interim Report

1. Puerto Rico State Agency for the Approval of Public Postsecondary Vocational, Technical Institutions and Programs.

Progress Report

1. Oklahoma State Regents for Higher Education.

State Agency Recognized For the Approval of Nurse Education

Petition for Renewal of Recognition

1. New York State Board of Regents, State Education Department, Office of the Professions (Nursing Education).

Where Can I Inspect Petitions and Third-Party Comments Before and After the Meeting?

All petitions and those third-party comments received in advance of the meeting, will be available for public inspection at the U.S. Department of Education, Room 7105, MS 8509, 1990 K Street, NW., Washington, DC 20006, telephone (202) 219-7011 between the hours of 8 a.m. and 3 p.m., Monday through Friday, until May 8, 2006. They will be available again after the June 5-7, 2006 Advisory Committee meeting. An appointment must be made in advance of such inspection.

How May I Obtain Electronic Access to This Document?

You may view this document, as well as all other Department of Education documents published in the Federal Register, in text or Adobe Portable Document Format (PDF) on the Internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2

Dated: January 31, 2006.
Sally L. Stroup,
Assistant Secretary for Postsecondary Education.

[FR Doc. E6-1549 Filed 2-3-06; 8:45 am]

BILLING CODE 4000-01-P